COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes a product and services from the Procurement List previously furnished by such agencies.

DATES: Effective January 8, 2017.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 4/15/2016 (81 FR 22239) and 9/2/2016 (81 FR 60681-60683), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s):

8465-01-608-7503—Bag, Sleeping, Outer, Extreme Cold Weather (ECW OSB) U.S. Marine Corps, Regular

8465-01-623-2346—Bag, Sleeping, Outer, Extreme Cold Weather (ECW) OSB) U.S. Marine Corps, Extra Long

Mandatory Source(s) of Supply: ReadyOne Industries, Inc., El Paso, TX

Mandatory for: 50% of the requirement of the Department of Defense

Contracting Activity: Defense Logistics Agency Troop Support

Distribution: C-List

Service

Service Type: Operation and Maintenance Service

Mandatory for: Defense Forensic Science Center, U.S. Army Criminal, Investigation Laboratory, Fort Gillem, 930 North 31st Street, Forest Park, GA

Mandatory Source(s) of Supply: PRIDE Industries, Roseville, CA

Contracting Activity: Dept of the Army, W074 ENDIST SAVANNAH

Deletions

On 10/28/2016 (81 FR 75050) and 11/4/2016 (81 FR 76923-76924), the Committee for Purchase From People Who Are Blind or Severely Disabled published notices of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and services deleted from the Procurement List.

End of Certification

Accordingly, the following product and services are deleted from the Procurement List:

Product

NSN(s)—Product Name(s): 8460-01-433-8398—Briefcase, Black

Mandatory Source(s) of Supply: Helena Industries, Inc., Helena, MT

Contracting Activity: General Services Administration, Fort Worth, TX

Services

Service Type: Mailing of Initial Tech Orders Service

Mandatory for: Robins Air Force Base, Robins AFB, GA

Mandatory Source(s) of Supply: Houston County Association for Exceptional Citizens, Inc., Warner Robins, GA

Contracting Activity: Dept of the Air Force, FA8501 AFSC PZIO

Service Type: Administrative Service

Mandatory for: 426 5th Avenue, Sheppard AFB, TX

Mandatory Source(s) of Supply: Work Services Corporation, Wichita Falls, TX

Contracting Activity: Dept of the Air Force, FA3020 82 CONS LGC

Service Type: Janitorial/Custodial Service

Mandatory for: Missouri Air National Guard, 10800 Lambert International Boulevard, Bridgeton, MO

Mandatory Source(s) of Supply: MGI Services Corporation, St. Louis, MO

Contracting Activity: Dept of the Air Force, FA7014 AFDW PK

Service Type: Food Service Attendant Service

Mandatory for: Kirtland Air Force Base, Kirtland AFB, NM

Mandatory Source(s) of Supply: LifeROOTS, Inc., Albuquerque, NM

Contracting Activity: Dept of the Air Force, FA7014 AFDW PK

Service Type: Facilities Maintenance Service

Mandatory for: Buckley Annex and Building 667, Buckley AFB, CO

Mandatory Source(s) of Supply: Professional Contract Services, Inc., Austin, TX

Contracting Activity: Dept of the Air Force, FA2543 460 CONF LGC

Patricia Briscoe,
Deputy Director, Business Operations Pricing and Information Management.

[FR Doc. 2016-29576 Filed 12-8-16; 8:45 am]

BILLING CODE 6353-01-P